DEPARTMENT OF JUSTICE

Notice of Lodging of Consent Decree Pursuant to the Clean Air Act

In accordance with 28 CFR 50.7, notice is hereby given that on January 25, 2001 a proposed consent decree in United States v. The Michael's Furniture Company, Civil Action No. S-00-798 DFL GGH, was lodged with the United States District Court for the Eastern District of California.

In this action, which concerned the Michael's Furniture Company's facility in Sacramento, California, the United States alleged that the company initiated the construction, modification or operation of a stationary source of pollution without first obtaining the necessary permits from the local air district, failed to install the best available control technology, and exceeded the emission limitations in the permits that the company did obtain. The consent decree requires the company to pay a $185,500 penalty (plus interest) and, among other things, to (i) limit emissions of volatile organic compounds (“VOCs”) to 2,500 pounds per month and 7,500 pounds per quarter, (ii) operate its thermal oxidizer to achieve a 95 percent capture efficiency and 95 percent destruction efficiency of VOCs, and (iii) apply for new permits to operate from the local air district that reflect the requirements established in the consent decree.

The Department of Justice will receive, for a period of thirty (30) days from the date of this publication, comments on the proposed consent decree. Comments should be addressed to the Assistant Attorney General for the Environment and Natural Resources Division, P.O. Box 7611, U.S. Department of Justice, Washington, DC 20044-7611, and should refer to United States v. The Michael's Furniture Company, Civil Action No. S-00-798 DFL GGH (E.D. Cal.), DOJ N0. 90-5-2-1-06556.

The proposed consent decree may be examined at the office of the United States Attorney, 501 “I” Street, Sacramento, CA, and may also be obtained my mail from the Consent Decree Library, PO Box 7611, U.S. Department of Justice, Washington, DC 20044-7611. To request a copy of the proposed consent decree by mail, please refer to United States v. The Michael's Furniture Company, Civil Action No. S-00-798 DFL GGH (E.D. Cal.), DOJ No. 90-5-2-06556, and enclose a check for the amount of $3.50 (25 cents per page reproduction cost) payable to the Consent Decree Library.

Ellen Mahan,
Assistant Chief, Environmental Enforcement Section, Environment and Natural Resources Division.

[FR Doc. 01-3062 Filed 2-5-01; 8:45 am]

BILLING CODE 4410-15-M